DEPARTMENT OF THE INTERIOR

Bureau of Land Management

[LLCAD07000, L51010000.FX0000.LVRWB10B4050]

Notice of Availability of the San Diego Gas & Electric Ocotillo Sol Solar Project Final Environmental Impact Statement and Proposed California Desert Conservation Area Plan Amendment, CA

AGENCY: Bureau of Land Management, Interior.

ACTION: Notice of Availability.

SUMMARY: In accordance with the National Environmental Policy Act of 1969, as amended, and the Federal Land Policy and Management Act of 1976, as amended, the Bureau of Land Management (BLM) has prepared a Proposed California Desert Conservation Area (CDCA) Plan Amendment and Final Environmental Impact Statement (EIS) for the San Diego Gas & Electric (SDG&E) Ocotillo Sol Solar Project in Imperial County, California, and by this notice is announcing its availability.

DATES: BLM planning regulations state that any person who meets the conditions as described in the regulations may protest the Proposed CDCA Plan Amendment. A person who meets the conditions and files a protest must file the protest within 30 days of the date that the Environmental Protection Agency publishes its notice of availability for the EIS in the Federal Register.

ADDRESSES: Copies of the Ocotillo Sol Solar Project Final EIS/Proposed CDCA Plan Amendment have been sent to affected Federal, State, and local government agencies and to other stakeholders, including tribal governments. Copies are also available in the BLM California Desert District Office at 22835 Calle San Juan de los Lagos, Moreno Valley, CA 92553 and at the El Centro Field Office, 1661 S. 4th Street, El Centro, CA 92243.

Interested persons may also review the Final EIS/Proposed CDCA Plan Amendment on the Internet at http://www.blm.gov/ca/st/en/fo/elcentro/nepa/ocotillosol.html. All protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

FOR FURTHER INFORMATION CONTACT: Noel Ludwig, Project Manager, telephone 951-697-5368; address 22835 Calle San Juan de Los Lagos, Moreno Valley, CA 92553; or email CA_BLM_Ocotillo_Sol_Comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has received a right-of-way (ROW) application from SDG&E to construct, operate, maintain, and decommission the Ocotillo Sol Solar Project, a solar photovoltaic (PV) power plant facility, on approximately 115 acres of BLM-administered public lands in Imperial County, California. The site for the solar facility would be adjacent to the existing Imperial Valley Substation (IVS), 4 miles south of Interstate 8, approximately 5 miles north of the United States-Mexico border, 5 miles south of Seeley, 9 miles southwest of El Centro, and 82 miles east of San Diego.

The proposed project site is located within the BLM's CDCA, the BLM's Yuha Basin Area of Critical Environmental Concern, and the Yuha Desert Management Area for flat-tailed horned lizard. A portion of the north-south running Juan Bautista de Anza National Historic Trail lies approximately 5 miles southwest of the project site at its closest point. The Jacumba Mountains Wilderness lies 11.7 miles to the west of the project site.

All proposed project components, including a temporary 15-acre construction laydown area, would be located on BLM-administered lands. The proposed Ocotillo Sol project components would include the PV modules and mounting structures, a maintenance building with an associated parking area, internal roads, inverters, transformers, and the combining switchgear. An existing road to the IVS would provide access to the proposed project site. New minor internal roads would be constructed between the module rows. The interconnection to the IVS would be via underground trench. Once approved and operational, the proposed Ocotillo Sol project is expected to have an average generating capacity of 15 to 18 megawatts (MW), depending on the specific technology chosen, with a peak output of up to 20 MW.

In connection with its decision on the proposed Ocotillo Sol project, the BLM will also include potential amendments to the CDCA Plan, as analyzed in the Final EIS. The CDCA Plan, while recognizing the potential compatibility of solar energy facilities on public lands, requires that all sites associated with power generation or transmission not identified in the Plan be considered through the land use plan amendment process. The BLM is deciding whether to amend the CDCA Plan to identify the Ocotillo Sol project site as suitable or unsuitable for solar energy development.

The Final EIS describes the following three alternatives: (1) A No Action/No CDCA Plan Amendment; (2) The Applicant's Proposed Project to construct, operate, maintain, and decommission a 100-acre solar PV facility on BLM-managed lands under an authorized ROW, plus utilization of a 15-acre temporary ROW for construction laydown; and (3) A Reduced Footprint Alternative which would retain the 100-acre facility but reduce the laydown area from 15 acres to 2 acres. All of the alternatives except the No Action/No CDCA Plan Amendment would include an amendment to the CDCA Plan. Alternative 3 is the BLM's preferred alternative in the Final EIS.

The issues evaluated in the Final EIS include the physical, biological, cultural, socioeconomic, and other resources that have the potential to be affected by the proposed project and alternatives. These issues include air quality, greenhouse gases and climate change, geology and soil resources, water resources, biological resources, cultural resources, paleontological resources, fire and fuels, lands and realty, special designations, lands with wilderness characteristics, recreation, visual resources, transportation and public access, noise and vibration, public health and safety, socioeconomics, and environmental justice.

The BLM hosted two public scoping meetings in El Centro, California, on August 10, 2011. During the public scoping period, two Federal agencies, eight interest groups, and three individuals provided comments. Two public comment meetings for the Ocotillo Sol Draft EIS/Draft CDCA Plan Amendment were held in El Centro on June 4, 2012. The formal comment period commenced with the publication of the Draft EIS/Draft CDCA Plan Amendment on April 20, 2012 and ended 90 days later on July 19, 2012. The BLM received 13 comment letters (including public comment forms from public meetings, postal letters, emails, and faxes) from individuals, agencies, organizations, and groups during the public comment period.

Comments on the Draft EIS/Draft CDCA Plan Amendment received from the public and internal BLM review were considered and incorporated as appropriate into the Final EIS/Proposed CDCA Plan Amendment. Public comments resulted in the addition of clarifying text, but did not significantly change the analysis, alternatives, or proposed land use plan decisions.

Instructions for filing a protest with the Director of the BLM regarding the Proposed CDCA Plan Amendment may be found in the “Dear Reader” Letter of the Final EIS/Proposed CDCA Plan Amendment and at 43 CFR 1610.5-2.

All protests must be in writing and mailed to the appropriate address, as set forth in the ADDRESSES section above. Emailed protests will not be accepted as valid protests unless the protesting party also provides the original letter by either regular or overnight mail postmarked by the close of the protest period. Under these conditions, the BLM will consider the email as an advance copy and it will receive full consideration. If you wish to provide the BLM with such advance notification, please direct emails to Bhudgens@blm.gov.

Before including your address, phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2

Thomas Pogacnik,
Deputy State Director.

[FR Doc. 2013-17870 Filed 7-25-13; 8:45 am]

BILLING CODE 4310-40-P